DEPARTMENT OF HEALTH AND HUMAN SERVICES

National Institutes of Health

Center for Scientific Review; Amended Notice of Meeting

Notice is hereby given of a change in the meeting of the Center for Scientific Review Special Emphasis Panel, March 31, 2010, 12 p.m. to March 31, 2010, 2 p.m., National Institutes of Health, 6701 Rockledge Drive, Bethesda, MD 20892, which was published in the Federal Register on March 5, 2010, 75 FR 10291-10292.

The meeting will be held April 6, 2010, from 9 a.m. to 11 a.m.. The meeting location remains the same. The meeting title has been changed to “Member Conflict: Health and Behavior”. The meeting is closed to the public.

Dated: March 17, 2010.
Jennifer Spaeth,
Director, Office of Federal Advisory Committee Policy.

[FR Doc. 2010-6383 Filed 3-23-10; 8:45 am]

BILLING CODE 4140-01-P